DEPARTMENT OF THE INTERIOR

Fish and Wildlife Service

[FWS-R6-ES-2012-N064; FXES11130600000D2-123-FF06E00000]

Endangered and Threatened Wildlife and Plants; Recovery Permit Applications

AGENCY: Fish and Wildlife Service, Interior.

ACTION: Notice of availability; request for comments.

SUMMARY: We, the U.S. Fish and Wildlife Service, invite the public to comment on the following applications to conduct certain activities with endangered or threatened species. The Endangered Species Act of 1973, as amended (Act), prohibits activities with endangered and threatened species unless a Federal permit allows such activity. The Act also requires that we invite public comment before issuing these permits.

DATES: To ensure consideration, please send your written comments by April 19, 2012.

ADDRESSES: You may submit comments or requests for copies or more information by any of the following methods. Alternatively, you may use one of the following methods to request hard copies or a CD-ROM of the documents. Please specify the permit you are interested in by number (e.g., Permit No. TE-123456).

• Email: permitsR6ES@fws.gov. Please refer to the respective permit number (e.g., Permit No. TE-123456) in the subject line of the message.

• U.S. Mail: Ecological Services, U.S. Fish and Wildlife Service, P.O. Box 25486-DFC, Denver, CO 80225.

• In-Person Drop-off, Viewing, or Pickup: Call (303) 236-4256 to make an appointment during regular business hours at 134 Union Blvd., Suite 645, Lakewood, CO 80228.

FOR FURTHER INFORMATION CONTACT: Kris Olsen, Permit Coordinator Ecological Services, (303) 236-4256 (phone); permitsR6ES@fws.gov (email).

SUPPLEMENTARY INFORMATION:

Background

The Act (16 U.S.C. 1531 et seq.) prohibits activities with endangered and threatened species unless a Federal permit allows such activity. Along with our implementing regulations in the Code of Federal Regulations (CFR) at 50 CFR part 17, the Act provides for permits, and requires that we invite public comment before issuing these permits.

A permit granted by us under section 10(a)(1)(A) of the Act authorizes you to conduct activities with United States endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number (e.g., Permit No. TE-123456) for the application when submitting comments.

Documents and other information the applicants have submitted with these applications are available for review, subject to the requirements of the Privacy Act (5 U.S.C. 552a) and Freedom of Information Act (5 U.S.C. 552).

Permit Application Number: TE-056851

Applicant: U.S. Fish and Wildlife Service, Great Plains Fish and Wildlife Conservation Office, Pierre, South Dakota.

The applicant requests renewal of an existing permit to take (capture, hold, tag, propagate, and kill) pallid sturgeon (Scaphirhynchus albus) in conjunction with surveys and population monitoring activities throughout the range of the species in Montana for the purpose of enhancing the species' survival.

Permit Application Number: TE-08832A

Applicant: Phaedra Budy, Utah State University, Logan, Utah.

The applicant requests renewal of an existing permit to take (capture, survey, and tag) bonytail (Gila elegans), Colorado pikeminnow (Ptychocheilus lucius), and razorback sucker (Xyrauchen texanus) in conjunction with surveys and population monitoring activities throughout the range of each species in Utah for the purpose of enhancing the species' survival.

Permit Application Number: TE-66793A

Applicant: Derris R. Jones, Two R Ranch Wildlife Consulting, Helper, Utah.

The applicant requests renewal of an existing permit to take (harass by survey) Southwestern willow flycatcher (Empidonax traillii extimus) in conjunction with surveys and population monitoring activities in Utah for the purpose of enhancing the species' survival.

Permit Application Number: TE-053925

Applicant: Pamela Sprenkle, National Park Service, Niobrara National Scenic River, Yankton, South Dakota.

The applicant requests renewal of an existing permit to take (harass by survey) interior least tern (Sterna antillarum athalassos) and piping plover (Charadrius melodus) in conjunction with population monitoring activities in Nebraska and South Dakota for the purpose of enhancing the species' survival.

Permit Application Number: TE-105455

Applicant: Steve Krentz, U.S. Fish and Wildlife Service, Missouri River Fish and Wildlife Conservation Office, Bismarck, North Dakota.

The applicant requests an amendment to an existing permit to increase take of 560 hatchery-reared pallid sturgeon (Scaphirhynchus albus) at the Garrison Dam National Fish Hatchery for the purpose of a seismic activity study on fish species of the Missouri River. These fish are excess to existing augmentation needs.

Permit Application Number: TE-052582

Applicant: Scott Kamber, TRC Environmental Corp., Laramie, Wyoming.

The applicant requests renewal of an existing permit to take (harass by survey) the following species, in conjunction with surveys and population monitoring activities for the purpose of enhancing the species' survival:

American burying beetle (Nicrophorus americanus) surveys in South Dakota.

Black-footed ferret (Mustela nigripes) surveys in Colorado, New Mexico, Utah, and Wyoming.

Mexican spotted owl (Strix occidentalis lucida) surveys in Arizona, Colorado, New Mexico, and Utah.

Preble's meadow jumping mouse (Zapus hudsonius preblei) surveys in Colorado and Utah.

Southwestern willow flycatcher (Empidonax traillii extimus) surveys in Arizona, Colorado, New Mexico, and Utah.

Permit Application Number: TE-051374

Applicant: Stephen Lenzo, U.S. Forest Service, Nebraska National Forests and Grasslands, Chadron, Nebraska.

The applicant requests renewal of an existing permit to take (harass by survey) American burying beetle (Nicrophorus americanus) in conjunction with population monitoring activities in Nebraska and South Dakota for the purpose of enhancing the species' survival.

Permit Application Number: TE-052005

Applicant: Edwin Miller, Kansas Department of Wildlife and Parks, Independence, Kansas.

The applicant requests renewal of an existing permit to take (harass by survey) American burying beetle (Nicrophorus americanus) in conjunction with population monitoring activities in Nebraska and South Dakota for the purpose of enhancing the species' survival.

National Environmental Policy Act

In compliance with the National Environmental Policy Act (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: March 12, 2012.
Michael G. Thabault,
Acting Regional Director, Mountain-Prairie Region.

[FR Doc. 2012-6656 Filed 3-19-12; 8:45 am]

BILLING CODE 4310-55-P